DEPARTMENT OF EDUCATION

National Assessment Governing Board; Meeting

AGENCY: National Assessment Governing Board; Education.

ACTION: Notice of full and partially closed meeting.

SUMMARY: This notice sets forth the schedule and proposed agenda of a forthcoming meeting of the National Assessment Governing Board. This notice also describes the functions of the Board. Notice of this meeting is required under Section 10(a)(2) of the Federal Advisory Committee Act. This document is intended to notify the general public of their opportunity to attend. This notice does not meet the 15 days requirement for publishing in the Federal Register because the need to call this meeting followed Board action taken at the May 10-12, 2001 Board meeting; Board members' calendars to attend this meeting were finalized on May 21, 2001; and this meeting cannot be postponed as it has to be convened prior to a June 28, 2001 emergency Board meeting that has just been scheduled.

Individuals who will need accommodations for a disability in order to attend the meeting (i.e. interpreting services, assistive listening devices, materials in alternative format) should notify Munira Mwalimu at 202-357-6938 or at Munira.Mwalimu@ed.gov no later than May 31, 2001. We will attempt to meet requests after this date, but cannot guarantee availability of the requested accomodation. The meeting site is accessible to individuals with disabilities.

Date: June 8, 2001.

Time: June 8—Committee on Standards, Design, and Methodology, 8:30 a.m.-1:00 p.m., (open), 1:00-2:00 p.m. (closed), 2:00 p.m.-3:30 p.m. (open).

Location: Madison Hotel, 15th and M Streets, NW., Washington, DC.

FOR FURTHER INFORMATION CONTACT: Munira Mwalimu, Operations Officer, National Assessment Governing Board, 800 North Capitol Street, NW, Suite 825, Washington, DC 20002-4233, Telephone: (202) 357-6938.

SUPPLEMENTARY INFORMATION: The National Assessment Governing Board is established under section 412 of the National Education Statistics Act of 1994 (Title IV of the Improving America's Schools Act of 1994) (Pub. L. 103-382).

The Board is established to formulate policy guidelines for the National Assessment of Educational Progress. The Board is responsible for selecting subject areas to be assessed, developing assessment objectives, identifying appropriate achievement goals for each grade and subject tested, and establishing standards and procedures for interstate and national comparisons.

The Committee on Standards, Design, and Methodology will meet on June 8, 2001 in open session from 8:30 a.m. to 1 p.m., in closed session from 1 p.m. to 2 p.m.; and will reconvene in open session from 2 p.m. to 3:30 p.m.

In the open sessions, the Committee on Standards, Design, and Methodology will discuss sampling and design issues pertaining to the National Assessment of Educational Progress (NAEP) 2002 program.

From 1-2 p.m. the Committee will meet in closed session to receive and discuss Independent Government Cost Estimates on contract initiatives for NAEP.

The meeting must be conducted in closed session because public disclosure of this information would likely have an adverse financial effect on the NAEP program. The discussion of this information would be likely to significantly frustrate implementation of a proposed agency action if conducted in open session. Such matters are protected by exemption 9(B) of 552b(c) of Title 5 U.S.C.

Summaries of the activities of the closed sessions and related matters, which are informative to the public and consistent with the policy of section 5 U.S.C. 5526(c), will be available to the public within 14 days of the meeting. Records are kept of all Board proceedings and are available for public inspection at the U.S. Department of Education, National Asessment Governing Board, Suite #825, 800 North Capitol Street, NW., Washington, DC from 8:30 a.m. to 5 p.m. Eastern Standard Time.

Dated: May 22, 2001.
Roy Truby,
Executive Director, National Assessment Governing Board.

[FR Doc. 01-13295 Filed 5-24-01; 8:45 am]

BILLING CODE 4000-01-M